DEPARTMENT OF TRANSPORTATION

Federal Aviation Administration

14 CFR Part 137

Operations in Controlled Airspace Designated for an Airport

AGENCY: Federal Aviation Administration (FAA), DOT.

ACTION: Final rule; technical amendment.

SUMMARY: This final rule revises an incorrect cross-reference in the regulations regarding operations in controlled airspace designated for an airport. The current regulations cross-reference a particular paragraph that no longer exists. This final rule updates the cross-reference so that the reader will be able to find the appropriate weather minimum limitations on visual flight rules for aircraft in controlled airspace near airports.

DATES: Effective Date: This final rule is effective March 26, 2009.

FOR FURTHER INFORMATION CONTACT: Carl N. Johnson, Flight Standards Office, AFS-820, Federal Aviation Administration, 800 Independence Ave., SW., Washington, DC 20591; telephone (202) 493-5351; e-mail carl.n.johnson@faa.gov.

SUPPLEMENTARY INFORMATION:

Background

On December 17, 1991 (56 FR 65664), an amendment created § 137.43, Operations in controlled airspace designated for an airport. Paragraph (c) of this section contains a reference to paragraph (a)(2) of § 91.157, Special VFR weather minimums. The purpose of the cross-reference is to set out the exceptions for aircraft operating under special visual flight rules (VFR) in controlled airspace designated for airports. However, a final rule published on December 5, 1995 (58 FR 51968) revised § 91.157. That revision removed paragraph (a)(2) and placed the information in paragraph (b)(4). As a result, the cross-reference in § 137.43 became inaccurate. This final rule revises the cross-reference in § 137.43(c) so that it correctly refers to § 91.157(b)(4).

Technical Amendment

This technical amendment merely revises an out-of-date cross-reference. There are no other changes to the existing regulatory text.

Justification for Immediate Adoption

Because this action updates an inaccurate cross-reference, the FAA finds that notice and public comment under 5 U.S.C. section 553(b) is unnecessary. For the same reason, the FAA finds good cause exists under 5 U.S.C. section 553(d) for making this rule effective upon publication.

List of Subjects in 14 CFR Part 137

Agriculture, Aircraft, Aviation safety, Reporting and recordkeeping requirements.

The Amendment

In consideration of the forgoing, the FAA amends 14 CFR part 137 as follows:

PART 137—AGRICULTURAL AIRCRAFT OPERATIONS

1. The authority citation for part 137 continues to read as follows:

Authority: 49 U.S.C. 106(g), 40103, 40113, 44701-44702.

§ 137.43 [Amended]

2. Amend § 137.43(c) by removing the reference “§ 91.157(a)(2)” and adding in its place the reference “§ 91.157(b)(4)”.

Issued in Washington, DC on March 13, 2009.
Pamela Hamilton-Powell,
Director, Office of Rulemaking.

[FR Doc. E9-6731 Filed 3-25-09; 8:45 am]

BILLING CODE 4910-13-P